DEPARTMENT OF DEFENSE

Office of the Secretary

Defense Advisory Committee on Women in the Services; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the Defense Advisory Committee on Women in the Services will take place.

DATES:

Day 1—Open to the public Tuesday, September 12, 2017 from 8:30 a.m. to 12:30 p.m.

Day 2—Open to the public Wednesday, September 13, 2017 from 8:30 a.m. to 12:00 p.m.

ADDRESSES: Association of the United States Army (AUSA) Conference Center, 2425 Wilson Boulevard, Arlington, VA 22201.

FOR FURTHER INFORMATION CONTACT: Jessica Myers, (703) 697-2122 (Voice), 703-614-6233 (Facsimile), jessica.c.myers4.civ@mail.mil (Email). Mailing address is 4800 Mark Center Drive, Suite 04J25-01, Alexandria, VA 22350. Web site: http://dacowits.defense.gov. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

FOR FURTHER INFORMATION CONTACT: Mr. Robert Bowling or DACOWITS Staff at 4800 Mark Center Drive, Suite 04J25-01, Alexandria, Virginia 22350-9000; robert.d.bowling1.civ@mail.mil, telephone (703) 697-2122, fax (703) 614-6233. Any updates to the agenda or any additional information can be found at http://dacowits.defense.gov/.

Purpose of the Meeting: The purpose of the meeting is for the Committee to receive briefings and updates relating to their current work. The meeting will open with the Designated Federal Officer (DFO) giving a status update on the Committee's requests for information. This will be followed with two panel discussions on the following topics: Gender Integration; and Physiological Gender Differences. Day one will end with a Public Comment Period. The second day of the meeting will open with a panel discussion on the following topic: Propensity to Serve. Lastly, the Committee will propose and vote on their 2017 Recommendations to the Secretary of Defense.

Agenda:

Tuesday, September 12, 2017, from 8:30 a.m. to 12:30 p.m.

—Welcome, Introductions, Announcements

—Request for Information Status Update

—Panel Discussion—Gender Integration

—Panel Discussion—Physiological Gender Differences

—Briefing

—Public Comment Period

—Public Dismissed.

Wednesday, September 13, 2017, from 8:30 a.m. to 12:00 p.m.

—Welcome and Announcements

—Panel Discussion—Propensity to Serve

—Committee Proposes and Votes on 2017 Recommendations

—Public Dismissed

Meeting Accessibility: The Department of Defense (DoD) is publishing this notice to announce that the following Federal Advisory Committee meeting of the Defense Advisory Committee on Women in the Services (DACOWITS) will take place. This meeting is open to the public.

Written Statements: Pursuant to 41 CFR 102-3.140, and section 10(a)(3) of the Federal Advisory Committee Act of 1972, interested persons may submit a written statement for consideration by the DACOWITS. Individuals submitting a written statement must submit their statement to the point of contact listed at the address in FOR FURTHER INFORMATION CONTACT no later than 5:00 p.m., Tuesday, September 5, 2017. If a written statement is not received by Tuesday, September 5, 2017, prior to the meeting, which is the subject of this notice, then it may not be provided to or considered by the DACOWITS until its next open meeting. The DFO will review all timely submissions with the DACOWITS Chair and ensure they are provided to the members of the Committee. If members of the public are interested in making an oral statement, a written statement should be submitted. After reviewing the written comments, the Chair and the DFO will determine who of the requesting persons will be able to make an oral presentation of their issue during an open portion of this meeting or at a future meeting. Pursuant to 41 CFR 102-3.140(d), determination of who will be making an oral presentation is at the sole discretion of the Committee Chair and the DFO, and will depend on time available and if the topics are relevant to the Committee's activities. Five minutes will be allotted to persons desiring to make an oral presentation. Oral presentations by members of the public will be permitted only on Tuesday, September 12, 2017 from 12:00 p.m. to 12:30 p.m. in front of the full Committee. The number of oral presentations to be made will depend on the number of requests received from members of the public.

Dated: August 24, 2017.
Aaron Siegel,
Alternate OSD Federal Register Liaison Officer, Department of Defense.

[FR Doc. 2017-18295 Filed 8-28-17; 8:45 am]

BILLING CODE 5001-06-P